DEPARTMENT OF AGRICULTURE

Submission for OMB Review; Comment Request

February 25, 2005.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Foreign Agricultural Service

Title: Specialty Sugar Certificates Application.

OMB Control Number: 0551-0025.

Summary of Collection: The Secretary of Agriculture each year announces the U.S. sugar import quantity that will be subject to the tariff-rate quotas, including specialty sugars for each fiscal year (October 1—September 30) under the authority of 19 U.S.C. 3601, Presidential Proclamation 6763, Additional Note 5 to chapter 17 of the Harmonized Tariff Schedule of the United States. In order to grant licenses, ensure that imported specialty sugar does not disrupt the current domestic support program, and maintain administrative control over the program, an application with certain specific information must be collected from those who wish to participate in the program established by the regulation. Importers are required to supply specific information to the Secretary and the Foreign Agricultural Service (FAS), in order to be granted a certificate to import specialty sugar. The information is supplied to U.S. Customs officials in order to certify that the sugar being imported is “specialty sugar.”

Need and Use of the Information: The collected information will be used to: (1) Determine whether applicants for the program meet the regulation's eligibility criteria; (2) ensure that sugar to be imported is specialty sugar and meets the requirements of the regulation; (3) audit participants' compliance with the regulation; and (4) prevent entry of world-priced progam sugar from entering the domestic commercial market instead of domestic specialty sugar market. Without the collection of this information the Certifying Authority would not have any basis on which to make a decision on whether a certificate should be granted, and would not have the ability to monitor sugar imports under this program.

Description of Respondents: Business or other for-profit; Individuals or households.

Number of Respondents: 20.

Frequency of Responses: Reporting: Annually.

Total Burden Hours: 10.

Ruth Brown,
Departmental Information Collection Clearance Officer.

[FR Doc. 05-4010 Filed 3-1-05; 8:45 am]

BILLING CODE 3410-10-M